DEPARTMENT OF EDUCATION

[CFDA No. 84.031]

Strengthening Institutions, American Indian Tribally Controlled Colleges and Universities, and Alaska Native and Native Hawaiian-Serving Institutions Programs; Correction

AGENCY: Department of Education.

ACTION: Notice inviting applications for new awards for Fiscal Year 2000; Correction.

SUMMARY: On December 30, 1999, a notice was published in the Federal Register (64 FR 73525-73527) to invite applications for the 2000-2001 award year. This notice corrects the December 30 document.

Page 73526 is corrected as follows:

(1) Column two, line 30, “accessed at:” should be “accessed beginning February 1, 2000 at:”.

(2) Column two, line 30, “http://gapsweb.ed.gov/.” should be “http://e-grants.ed.gov”.

(3) Column two, line 31, add “Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.”.

FOR FURTHER INFORMATION CONTACT: Darlene B. Collins, U.S. Department of Education, 1990 K Street, NW, 6th floor, Washington, DC 20006-8513. Telephone: (202) 502-7777. Email: darlene_collins@ed.gov If you use a telecommunications device for the deaf (TDD), you may call the Federal Information Relay Service (FIRS) at 1-800-877-8339.

Individuals with disabilities may obtain this document in an alternate format (e.g., Braille, large print, audiotape or computer diskette) on request to the contact person listed in the preceding paragraph.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free at 1-888-293-6498; or in the Washington, DC, area at (202) 512-1530.

Note: The official version of this document is the document published in the Federal Register. Free Internet access to the official edition of the Federal Register and the Code of Federal Regulations is available on GPO access at: http://www.access.gpo.gov/nara/index.html

Dated: January 28, 2000.
A. Lee Fritschler,
Assistant Secretary, Office of Postsecondary Education.

[FR Doc. 00-2355 Filed 2-2-00; 8:45 am]

BILLING CODE 4000-01-P